FEDERAL MINE SAFETY AND HEALTH REVIEW COMMISSION

Sunshine Act; Notice of Meeting

September 3, 2003.

Time and Date: 10 a.m., Thursday, September 11, 2003.

Place: Hearing Room, 9th Floor, 601 New Jersey Avenue, NW., Washington, DC.

Status: Open.

Matters to be Considered: The Commission will consider and act upon the following in open session:

Secretary of Labor v. Cactus Canyon Quarries of Texas, Inc., Docket Nos. CENT 2002-80-M. CENT 2001-285-M, CENT 2001-286-M, CENT 2001-379-M, CENT 2001-363-M, and CENT 2001-364-M. (Issues include whether the Commission should grant interlocutory review on the question of whether the judge erred in denying the operator's motion to dismiss based upon the Secretary's delay in proposing penalty assessments and filing petitions for assessment of penalties.)

FOR FURTHER INFORMATION CONTACT: Jean Ellen (202) 434-9950/(202) 708-9300 for TDD Relay/1-800-877-8339 for toll free.

Jean H. Ellen,
Chief Docket Clerk.

[FR Doc. 03-23206 Filed 9-8-03; 3:53 pm]

BILLING CODE 6735-01-M